DEPARTMENT OF HEALTH AND HUMAN SERVICES

Centers for Disease Control and Prevention

Notice of Award of a Single-Source Cooperative Agreement To Fund icddr,b (International Centre for Diarrhoeal Disease Research, Bangladesh)

AGENCY: Centers for Disease Control and Prevention (CDC), Department of Health and Human Services (HHS).

ACTION: Notice.

SUMMARY: The Centers for Disease Control and Prevention (CDC), located within the Department of Health and Human Services (HHS), announces the award of approximately $6,000,000, for Year 1 funding to icddr,b. The award will support high quality public health research and surveillance activities to further strengthen the ability of the Government of Bangladesh and other global partners to detect, prevent, and respond to disease threats. Funding amounts for years 2-5 will be set at continuation.

DATES: The period for this award will be September 30, 2024 through September 29, 2029.

FOR FURTHER INFORMATION CONTACT: Lata Kumar, Global Health Center, Centers for Disease Control and Prevention, Atlanta, GA, 30033, Telephone: 404-639-7618, email: lek7@cdc.gov.

SUPPLEMENTARY INFORMATION: The single-source award will support high quality public health and implementation science research that will guide stakeholders to prioritize resources, develop policies, and implement practices and interventions that will help mitigate the impact of health threats on the Bangladeshi population and globally. icddr,b is in a unique position to conduct this work, as it is the only non-diplomatic partner that CDC is aware of that has the legal authority and operational expertise to process the import of laboratory supplies and reagents, including time sensitive reagents. Surveillance activities contemplated under this award detect and isolate high-consequence pathogens whose handling and storage require advanced biocontainment skills and capacity. icddr,b's clinical microbiology laboratory meets the international standards of quality and is ISO 15189-2012 accredited and the institute has a strong and active institutional biosafety committee and Senior Biosafety Officer. icddr,b is the most biosafety capable institution in the country to execute critical ongoing studies on pathogens having pandemic potential such as Nipah virus, the testing of human, avian and bovine surveillance samples with unknown etiology, and studies of C. auris and influenza. To CDC's knowledge, icddr,b is the only institution in Bangladesh with the capability to handle such pathogens according to international biosecurity standards. Furthermore, icddr,b has agreements with major biomedical transportation organizations and maintains a material transfer agreement (MTA) with CDC for the shipping of swabs, blood, serum and DNA.

Summary of the Award

Recipient: icddr,b (International Centre for Diarrhoeal Disease Research, Bangladesh).

Purpose of the Award: The purpose of this award is to further strengthen the ability of the Government of Bangladesh and other global partners to detect, prevent, and respond to disease threats through high quality public health research and surveillance activities. Specifically, the individual activities under this cooperative agreement will: (a) determine burden, trends, etiology, and risk factors of priority diseases in Bangladesh, (b) develop and evaluate interventions and diagnostics, (c) evaluate the effectiveness of vaccinations to inform global policy, and (d) strengthen the Government of Bangladesh's surveillance, laboratory, and outbreak response capacity.

Amount of Award: The approximate year 1 funding amount will be $6,000,000 in Federal Fiscal Year (FY) 2024 funds, subject to the availability of funds. Funding amounts for years 2-5 will be set at continuation.

Authority: This program is authorized under section 301(a) of the Public Health Service Act [42 U.S.C. 241(a)], as amended and section 307 of the Public Health Service Act [42 U.S.C. 242l].

Period of Performance: September 30, 2024 through September 29, 2029.

Dated: August 22, 2023.
Terrance Perry,
Chief Grants Management Officer, Centers for Disease Control and Prevention.

[FR Doc. 2023-18369 Filed 8-24-23; 8:45 am]

BILLING CODE 4163-18-P